NUCLEAR REGULATORY COMMISSION

[NRC-2010-0008]

Withdrawal of Regulatory Guide 7.5

AGENCY: Nuclear Regulatory Commission.

ACTION: Withdrawal of Regulatory Guide 7.5, “Administrative Guide for Obtaining Exemptions From Certain NRC Requirements Over Radioactive Material Shipments.”

FOR FURTHER INFORMATION CONTACT: Thomas J. Herrity, Office of Nuclear Regulatory Research, U.S. Nuclear Regulatory Commission, Washington, DC 20555-0001, telephone: 301-251-7447 or e-mail Thomas.Herrity@nrc.gov.

SUPPLEMENTARY INFORMATION:

I. Introduction

The U.S. Nuclear Regulatory Commission (NRC) is withdrawing Regulatory Guide (RG) 7.5, “Administrative Guide for Obtaining Exemptions From Certain NRC Requirements Over Radioactive Material Shipments.”

Prior to expansion of the Department of Transportation (DOT) regulations in 1998 to include hazardous material transported while in intrastate commerce, most intrastate shipments of NRC-licensed material were not subject to DOT regulations. Recognizing this, in 10 CFR 71.5, “Transportation of Licensed Material,” the NRC imposed the same DOT requirements on these shipments (through 10 CFR 71.5(b)) that were already imposed on shipments in interstate commerce. Additionally, in 10 CFR 71.5(b), NRC provided licensees a method to request a modification, waiver, or exemption from the DOT regulations imposed in § 71.5(a). RG 7.5, originally published in May 1977, provided guidance on obtaining a modification, waiver, or exemption from the NRC-imposed DOT regulations via 10 CFR 71.5(b).

The number of shipments currently not subject to DOT regulations is markedly lower than in 1997. Shipments of licensed material that would not be subject to DOT regulations are those shipments that are not in commerce, e.g., Federal, State, or local government radioactive material shipments transported by government employees in government vehicles. In the almost 11 years after the DOT final rule became effective on October 1, 1998, NRC has not approved any requests for exemption, waiver, or modification of DOT requirements under 10 CFR 71.5(b).

II. Further Information

The withdrawal of RG 7.5 does not alter any prior or existing licensing commitments based on its use. The guidance provided in this RG is neither necessary nor current. RGs may be withdrawn when their guidance is superseded by congressional action or no longer provides useful information.

Regulatory guides are available for inspection or downloading through the NRC's public Web site under “Regulatory Guides” in the NRC's Electronic Reading Room at http://www.nrc.gov/reading-rm/doc-collections. Regulatory guides are also available for inspection at the NRC's Public Document Room (PDR), Room O-1 F21, One White Flint North, 11555 Rockville Pike, Rockville, Maryland 20852-2738. You can reach the PDR staff by telephone at 301-415-4737 or 800-397-4209, by fax at 301-415-3548, and by e-mail to pdr.resource@nrc.gov.

Dated at Rockville, Maryland, this 5th day of January 2010.
For the Nuclear Regulatory Commission.
Andrea D. Valentin,
Chief, Regulatory Guide Development Branch, Division of Engineering, Office of Nuclear Regulatory Research.

[FR Doc. 2010-336 Filed 1-11-10; 8:45 am]

BILLING CODE 7590-01-P